DEPARTMENT OF TRANSPORTATION

Federal Aviation Administration

14 CFR Part 39

[Docket No. FAA-2007-27715; Directorate Identifier 2006-NM-140-AD]

RIN 2120-AA64

Airworthiness Directives; Airbus Model A330 and A340 Airplanes

AGENCY: Federal Aviation Administration (FAA), Department of Transportation (DOT).

ACTION: Proposed rule; withdrawal.

SUMMARY: The FAA withdraws a second supplemental NPRM for an airworthiness directive (AD) that applies to all Airbus Model A330-200, A330-300, A340-200, and A340-300 series airplanes; and Model A340-541 and A340-642 airplanes. That second supplemental NPRM proposed to revise the Airworthiness Limitations Section (ALS), for all affected airplanes, by adding new Airworthiness Limitations Items (ALIs) to incorporate service life limits for certain items and inspections to detect fatigue cracking, accidental damage or corrosion in certain structures, in accordance with the revised ALS of the Instructions for Continued Airworthiness. Since the second supplemental NPRM was issued, we have published new NPRMs to propose to mandate the most recent airworthiness limitations for Model A330-200 and -300 series airplanes; and new ADs to mandate the most recent airworthiness limitations for Model A340-200 and -300 series airplanes; and Model A340-541 and -642 airplanes. Accordingly, the proposed AD is withdrawn.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Vladimir Ulyanov, Aerospace Engineer International Branch, ANM-116, FAA, International Branch, Transport Airplane Directorate, 1601 Lind Avenue, SW., Renton, Washington 98057-3356; telephone (425) 227-1138; fax (425) 227-1149.

SUPPLEMENTARY INFORMATION:

Discussion

We proposed to amend part 39 of the Federal Aviation Regulations (14 CFR part 39) with a second supplemental notice of proposed rulemaking (NPRM) for a new AD for all Airbus Model A330-200, A330-300, A340-200, and A340-300 series airplanes; and Model A340-541 and A340-642 airplanes. That second supplemental NPRM was published in the Federal Register on June 26, 2008 (73 FR 36288). That second supplemental NPRM would have required revising the Airworthiness Limitations section (ALS), for all affected airplanes, by adding new Airworthiness Limitations Items to incorporate service life limits for certain items and inspections to detect fatigue cracking, accidental damage or corrosion in certain structures, in accordance with the revised ALS of the Instructions for Continued Airworthiness. That second supplemental NPRM was prompted by the issuance of new and more restrictive service life limits and structural inspections based on fatigue testing and in-service findings. The proposed actions were intended to detect and correct fatigue cracking, accidental damage, or corrosion in principal structural elements, and to prevent failure of certain life-limited parts, which could result in reduced structural integrity of the airplane.

Actions Since Second Supplemental NPRM Was Issued

Since the second supplemental NPRM was issued, we have published new NPRMs to propose to mandate the most recent airworthiness limitations for Model A330-200 and -300 series airplanes; and new ADs to mandate the most recent airworthiness limitations for Model A340-200 and -300 series airplanes; and Model A340-541 and -642 airplanes, as follows:

• NPRM 2010-NM-210-AD was published on March 22, 2011 (76 FR 15867) for Model A330-200 and -300 series airplanes. That NPRM proposes to revise the airplane maintenance program by incorporating “A330 Airworthiness Limitation Items,” Issue 17.

• NPRM 2010-NM-211-AD was published on March 22, 2011 (76 FR 15872) for Model A330-200 and -300 series airplanes. That NPRM proposes to revise the maintenance program by incorporating Airbus A330 ALS Part 1, “Safe Life Airworthiness Limitation Items,” Revision 05.

• AD 2011-04-05, Amendment 39-16605 was published on February 15, 2011 (76 FR 8612) for Model A340-200, -300, -500, and -600 series airplanes. That AD requires revising the maintenance program by incorporating Airbus A340 ALS Part 1—Safe Life Airworthiness Limitation Items, Revision 05.

• AD 2011-04-06, Amendment 39-16606 was published on February 15, 2011 (76 FR 8610) for Model A340-200, -300, -500, and -600 series airplanes. That AD requires revising the maintenance program by incorporating Airbus A340 Airworthiness Limitation Items, Issue 11.

FAA's Conclusions

Upon further consideration, we have determined that the actions required by the second supplemental NPRM are required by other ADs that were published after issuance of the second supplemental NPRM. Accordingly, the supplemental NPRM is withdrawn.

Withdrawal of the second supplemental NPRM does not preclude the FAA from issuing another related action or commit the FAA to any course of action in the future.

Regulatory Impact

Since this action only withdraws a supplemental NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the second supplemental NPRM, Docket No. FAA-2007-27715; Directorate Identifier 2006-NM-140-AD, which was published in the Federal Register on June 26, 2008 (73 FR 36288).

Issued in Renton, Washington, on May 6, 2011.
Kalene C. Yanamura,
Acting Manager, Transport Airplane Directorate, Aircraft Certification Service.

[FR Doc. 2011-12165 Filed 5-17-11; 8:45 am]

BILLING CODE 4910-13-P